DEPARTMENT OF AGRICULTURE

Forest Service

Black Hills National Forest Advisory Board

AGENCY: Forest Service, USDA.

ACTION: Notice of cancellation of meeting of the Black Hills National Forest Advisory Board.

SUMMARY: The U. S. Department of Agriculture, Forest Service, Black Hills National Forest cancelled the October 16, 2013 meeting of the Black Hills National Forest Advisory Board (Board), due to the Federal Government furlough which began on October 1, 2013. The original Notice of Meeting for the October 16, 2013 meeting was published in the Federal Register, Volume 78, Number 187, Thursday, September 26, 2013, pages 59337-59338.

FOR FURTHER INFORMATION CONTACT: Scott Jacobson, Committee Management Officer, USDA, Forest Service, Black Hills National Forest by telephone at (605) 673-9216, by FAX at (605) 673-9208, or by email at sjjacobson@fs.fed.us. Individuals who use telecommunication devices for the deaf (TDD) may call the Federal Information Relay Service (FIRS) at 1-800-877-8339 between 8:00 a.m. and 8:00 p.m., Eastern Standard Time, Monday through Friday.

Dated: October 29, 2013.
Dennis Jaeger,
Acting Forest Supervisor.

[FR Doc. 2013-26298 Filed 11-1-13; 8:45 am]

BILLING CODE 3410-11-P